DEPARTMENT OF ENERGY

Federal Energy Regulatory Commission

Combined Notice of Filings #1

October 12, 2005.

Take notice that the Commission received the following electric rate filings:

Docket Numbers: ER02-1947-006.

Applicants: Occidental Power Services, Inc.

Description: Occidental Power Services, Inc submits an amendment to its 8/1/05 updated market power analysis filing which consists of Substitute First Revised Sheet No. 1.

Filed Date: October 4, 2005.

Accession Number: 20051006-0022.

Comment Date: 5 p.m. eastern time on Tuesday, October 25, 2005.

Docket Numbers: ER04-115-004; EL04-47-004; ER04-242-003; EL04-50-002.

Applicants: California Independent System Operator Corporation, Pacific Gas and Electric Company.

Description: California Independent System Operator Inc submits its compliance refund report informing FERC of the manner in which they have calculated the refunds & surcharges due to customers pursuant to Commission Order issued 02/02/05.

Filed Date: September 30, 2005.

Accession Number: 20051005-0130.

Comment Date: 5 p.m. eastern time on Friday, October 21, 2005.

Docket Numbers: ER04-449-010.

Applicants: New York Independent System Operator, Inc.

Description: New York Independent System Operator, Inc submits its second Status Report on deliverability analysis.

Filed Date: October 5, 2005.

Accession Number: 20051012-0014.

Comment Date: 5 p.m. eastern time on Wednesday, October 26, 2005.

Docket Numbers: ER05-1101-002; ER05-1346-001; ER05-1532-000.

Applicants: NorthWestern Corporation.

Description: NorthWestern Corp submits revised open access transmission tariff, Sixth Revised Volume No. 5 pursuant to FERC's September 15, 2005 Order.

Filed Date: September 30, 2005.

Accession Number: 20051004-0216.

Comment Date: 5 p.m. eastern time on Friday, October 21, 2005.

Docket Numbers: ER05-1229-000 and 001.

Applicants: Old Dominion Electric Cooperative.

Description: Old Dominion Electric Cooperative submits a notice of withdrawal of the application for acceptance of a rate schedule for providing cost-based Reactive Power and Voltage Control.

Filed Date: October 5, 2005.

Accession Number: 20051011-0266.

Comment Date: 5 p.m. eastern time on Wednesday, October 26, 2005.

Docket Numbers: ER05-1518-000.

Applicants: PPM Energy, Inc.

Description: PPM Energy Energy, Inc on behalf of the City of Klamath Falls, OR & Klamath Energy, LLC submits its Rate Schedule FERC No. 2, together with supporting testimony and cost-of-service schedules.

Filed Date: September 30, 2005.

Accession Number: 20051003-0131.

Comment Date: 5 p.m. eastern time on Friday, October 21, 2005.

Docket Numbers: ER05-856-002.

Applicants: Virginia Electric and Power Company.

Description: Dominion Resources Services, Inc submits a signature page to be included in Attachment B of the First Revised Service Agreement 21 for the Purchase of Electricity for Resale.

Filed Date: October 4, 2005.

Accession Number: 20051006-0018.

Comment Date: 5 p.m. eastern time on Tuesday, October 25, 2005.

Docket Numbers: ER06-6-000.

Applicants: Pacific Gas and Electric Company.

Description: Pacific Gas & Electric Co submits proposed changes to its Second Revised Rate Schedule FERC No. 136 and revision to Appendix E.

Filed Date: October 4, 2005.

Accession Number: 20051006-0092.

Comment Date: 5 p.m. eastern time on Tuesday, October 25, 2005.

Docket Numbers: ER06-7-000.

Applicants: Midwest Independent Transmission System Operator, Inc.

Description: Midwest Independent Transmission System Operator Inc and American Transmission Company LLC submits a notice of cancellation for the Washington Island Electric Cooperative Service Agreement for Network Integration Service.

Filed Date: October 5, 2005.

Accession Number: 20051006-0090.

Comment Date: 5 p.m. eastern time on Wednesday, October 26, 2005.

Docket Numbers: ER06-8-000.

Applicants: Arizona Public Service Company.

Description: Arizona Public Service Co submits Cancellation of First Revised Sheet Nos. 78 through 121 of FERC Electric Rate Schedule No. 192 with the City of Williams.

Filed Date: October 5, 2005.

Accession Number: 20051006-0091.

Comment Date: 5 p.m. eastern time on Wednesday, October 26, 2005.

Docket Numbers: ER06-11-000.

Applicants: Nevada Power Company

Description: Nevada Power Co submits a Notice of Cancellation of a Purchase Power Agreement with Sierra Pacific Power Co designated as FERC Rate Schedule No. 95.

Filed Date: October 3, 2005.

Accession Number: 20051011-0072.

Comment Date: 5 p.m. eastern time on Monday, October 24, 2005.

Docket Numbers: ER06-12-000.

Applicants: Nevada Power Company.

Description: Nevada Power Co submits a Notice of Cancellation of a Purchase Power Agreement with Sierra Pacific Power Co designated as FERC Rate Schedule No. 94.

Filed Date: October 3, 2005.

Accession Number: 20051011-0066.

Comment Date: 5 p.m. eastern time on Monday, October 24, 2005.

Docket Numbers: ER94-1384-033; ER99-2329-005; ER00-1803-004; ER01-457-005; ER02-1485-007; ER03-1108-006; ER03-1109-006; ER03-1315-005; ER04-733-003.

Applicants: Morgan Stanley Capital Group, Inc.; South Eastern Electric Development Corp.; South Eastern Generating Corp.; Naniwa Energy LLC; Power Contract Finance, L.L.C.; Power Contract Financing II, L.L.C.; Power Contract Financing II, Inc.; MS Retail Development Corp.; Utility Contract Funding II, LLC.

Description: Morgan Stanley Capital Group, Inc on behalf of Morgan Stanley Affiliates submits revised tariff sheets and revised market-based rate schedule in compliance with FERC's August 31, 2005 Order.

Filed Date: September 30, 2005.

Accession Number: 20051005-0022.

Comment Date: 5 p.m. eastern time on Friday, October 21, 2005.

Docket Numbers: ER99-3665-005.

Applicants: Occidental Power Marketing, L.P.

Description: Occidental Power Marketing, LP submits an amendment to its August 1, 2005 updated market power analysis.

Filed Date: October 4, 2005.

Accession Number: 20051006-0023.

Comment Date: 5 p.m. eastern time on Tuesday, October 25, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5753 Filed 10-18-05; 8:45 am]

BILLING CODE 6717-01-P